DEPARTMENT OF ENERGY

Federal Energy Regulatory Commission

[Docket No. AD12-12-000]

Coordination Between Natural Gas and Electricity Markets; Notice of Request for Comments and Technical Conference

Take notice that the Federal Energy Regulatory Commission (Commission) staff will hold a technical conference to elicit input pertaining to information sharing and communications issues between natural gas and electric power industry entities. The technical conference will take place on February 13, 2013 beginning at 9:00 a.m. and ending at approximately 4:00 p.m. The conference will be held at the Federal Energy Regulatory Commission, 888 First Street NE., Washington, DC 20426. All interested persons are invited to participate at the conference. Commission members may participate in the conference.

On November 15, 2012, the Commission issued an order directing further conferences and reports in the above captioned docket.¹ In the November 15 Order, the Commission directed staff to establish a technical conference to identify areas in which additional Commission guidance or regulatory changes could be considered. In advance of this conference, interested parties are asked to file comments on the following questions related to communications and information sharing:

¹ Coordination Between Natural Gas and Electricity Markets, 141 FERC ¶ 61,125, at P 5 (2012) (November 15 Order).

1. During an emergency, what kind of verbal communications and data exchanges do and should take place between the natural gas and electric industries? What are the industries' current “best practices” for these communications? How can today's best practices be improved? What should the Commission do, if anything, to facilitate the application of best practices between the industries?

2. Please provide specific examples of other communications practices between the natural gas and electric industries that could be enhanced, including any communications regarding maintenance and construction planning, day-to-day operations, and other non-emergency situations. In providing examples, please explain whether there are regulatory or other barriers that would prevent good communications such as specific Commission regulations, tariffs or contractual provisions, legal precedents, or inadequate communications infrastructure.

3. Should natural gas pipeline and electric utility system operators be allowed to exchange information that is not publicly posted? If so, what kinds of information should be permitted to be shared and under what circumstances? If information is shared, is there a need for enhanced protections against the improper use of the material communicated and what protections would be appropriate? Is the answer the same if a natural gas pipeline or its affiliate sells or buys wholesale electric power? If there are concerns that the increased communications might cause potential harm to industry participants, please explain those concerns. Please consider examples of information sharing that include both verbal and digital information.

Responses to these questions will form the basis of the agenda for and discussion at the February 2013 technical conference on communications and information-sharing. Comments responding to this notice should be submitted, in Docket No. AD12-12-000, on or before January 7, 2013. Comments may be filed electronically via the Internet. See the instructions on the Commission's Web site http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, mail an original and seven copies to: Federal Energy Regulatory Commission, 888 First Street NE., Washington, DC 20426.

A supplemental notice will be issued prior to the technical conference with information about the agenda and organization of the technical conference. Those interested in attending the technical conference are encouraged, but not required, to register by close of business February 10, 2013. You may register at the following Web page: https://www.ferc.gov/whats-new/registration/gas-elec-mkts-02-13-13-form.asp. Those also interested in speaking at the technical conference should notify the Commission by January 7, 2013 by completing the online form at the following Web page: https://www.ferc.gov/whats-new/registration/gas-elec-mkts-speaker-02-13-13-form.asp. Due to time constraints, we may not be able to accommodate all those interested in speaking.

The technical conference will not be transcribed. However, there will be a free webcast of the conference. The webcast will allow persons to listen to the technical conference, but not participate.

Anyone with Internet access who wants to listen to the conference can do so by navigating to www.ferc.gov's Calendar of Events and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

Notice is also hereby given that the discussions at the conference may address matters at issue in the following Commission proceeding(s) that are either pending or within their rehearing period: ISO New England Inc., Docket No. ER13-356-000.

Information on the technical conference will also be posted on the Web site http://www.ferc.gov/industries/electric/indus-act/electric-coord.asp, as well as the Calendar of Events on the Commission's Web site, http://www.ferc.gov, prior to the conference.

Commission conferences are accessible under section 508 of the Rehabilitation Act of 1973. For accessibility accommodations, please send an email to accessibility@ferc.gov or call toll free (866) 208-3372 (voice) or (202) 208-1659 (TTY), or send a FAX to (202) 208-2106 with the required accommodations.

For more information about the technical conference, please contact: Caroline Daly (Technical Information), Office of Energy Policy and Innovation, Federal Energy Regulatory Commission, 888 First Street NE., Washington, DC 20426, (202) 502-8931, Caroline.Daly@ferc.gov. Anna Fernandez (Legal Information), Office of General Counsel, Federal Energy Regulatory Commission, 888 First Street NE., Washington, DC 20426, (202) 502-6682, Anna.Fernandez@ferc.gov. Sarah McKinley (Logistical Information), Office of External Affairs, Federal Energy Regulatory Commission, 888 First Street NE., Washington, DC 20426, (202) 502-8004, Sarah.McKinley@ferc.gov.

Dated: December 7, 2012.
Kimberly D. Bose,
Secretary.

[FR Doc. 2012-30063 Filed 12-12-12; 8:45 am]

BILLING CODE 6717-01-P